DEPARTMENT OF HEALTH AND HUMAN SERVICES

Administration for Children and Families

Privacy Act of 1974; System of Records; Correction

AGENCY: Administration for Children and Families, Department of Health and Human Services.

ACTION: Notice; Correction.

SUMMARY: The Department of Health and Human Services (HHS) published a system of records notice in the Federal Register on May 16, 2024, for new system of records “OCSS Research Platform” maintained by HHS' Administration for Children and Families (ACF), Office of Child Support Services (OCSS). The notice contained an incorrect system number, 09-80-0391; the correct number is 09-80-0390.

FOR FURTHER INFORMATION CONTACT: Beth Kramer, HHS Privacy Act Officer, FOIA/Privacy Act Division, 200 Independence Ave. SW—Suite 729H, Washington, DC 20201, or beth.kramer@hhs.gov, (202) 690-6941.

SUPPLEMENTARY INFORMATION:

Correction

In the Federal Register of May 16, 2024, in FR Doc 2024-10776, on page 42881 (third column), correct the system number to read:

SYSTEM NAME AND NUMBER:

OCSS Research Platform, 09-80-0390.

Dated: May 17, 2024.
Beth Kramer,
HHS Privacy Act Officer, FOIA-Privacy Act Division, Office of the Assistant Secretary for Public Affairs.

[FR Doc. 2024-11267 Filed 5-21-24; 8:45 am]

BILLING CODE 4184-42-P